DEPARTMENT OF COMMERCE

Foreign-Trade Zones Board

[B-40-2021]

Foreign-Trade Zone (FTZ) 107—Polk County, Iowa; Authorization of Production Activity; Cycle Force Group, LLC (Electric and Non-Electric Cycles); Ames, Iowa

On May 13, 2021, Cycle Force Group, LLC submitted a notification of proposed production activity to the FTZ Board for its facilities within Subzone 107F, in Ames, Iowa.

The notification was processed in accordance with the regulations of the FTZ Board (15 CFR part 400), including notice in the Federal Register inviting public comment (86 FR 27379, May 20, 2021). On September 10, 2021, the applicant was notified of the FTZ Board's decision that no further review of the activity is warranted at this time. The production activity described in the notification was authorized, subject to the FTZ Act and the FTZ Board's regulations, including Section 400.14.

Dated: September 10, 2021.
Elizabeth Whiteman,
Acting Executive Secretary.

[FR Doc. 2021-19913 Filed 9-14-21; 8:45 am]

BILLING CODE 3510-DS-P